DEPARTMENT OF AGRICULTURE

Forest Service

Mt. Hood Meadows Ski Resort Parking Improvements

AGENCY: Forest Service, USDA.

ACTION: Notice of intent to prepare an environmental impact statement.

SUMMARY: The Mt. Hood National Forest (Forest) will prepare an Environmental Impact Statement (EIS) to document and disclose the potential environmental effects of improving the parking at Mt. Hood Meadows Ski Resort. The proposed action is to construct the Twilight Parking Lot, an eight-acre parking lot for both downhill and Nordic customers at Mt Hood Meadows Ski Area. An additional 4.5 acres would be cleared for access roads, cut/fill slopes, storm water swales, snow storage, and an equipment maintenance yard. In addition, the proposed action includes the construction of the new Sunrise Vehicle Maintenance Shop on the north side of the Sunrise parking lot.

DATES: Comments concerning the scope of this analysis must be received no later than August 8, 2011 to ensure they are fully incorporated into the Draft EIS.

ADDRESSES: Please send your written comments to: Jennie O'Connor Card, Mt. Hood Meadows Ski Resort Parking Improvements Team Leader, 6780 Highway 35, Parkdale, Oregon 97041; Fax: (541) 352-7365. You may also hand-deliver your comments to the above address during normal business hours from 8 a.m. to 4:30 Monday through Friday, excluding federal holidays. Electronic comments may be submitted to comments-pacificnorthwest-mthood-hoodriver@fs.fed.us in a format such as an e-mail message, plain text (.txt), rich text format (.rtf), or Word (.doc).

FOR FURTHER INFORMATION CONTACT: Jennie O'Connor Card, Natural Resource Planner, Mt. Hood National Forest, 6780 Highway 35, Parkdale, Oregon 97041 or by e-mailing jennieoconnorcard@fs.fed.us or by calling (541) 352-1255.

SUPPLEMENTARY INFORMATION:

Need for the Proposal

The overall purpose of this project is to improve public and customer safety by increasing parking capacity and improving traffic flow in at Mt. Hood Meadows Ski Resort. Parking capacity would be increased by building the new Twilight Parking Lot and by moving the vehicle maintenance operations from the main lot to an alternate location. Also, traffic flow would be improved by constructing a left turn lane for northbound traffic turning onto the Mt. Hood Meadows Access Road.

Specific management objectives and underlying needs are to:

• Provide for public and customer safety by improving parking capacity;

• Provide for public safety on Highway 35 by constructing a left turn lane, with adequate vehicle capacity, for ski traffic waiting to turn onto the Mt. Hood Meadows Access Road;

• Provide additional parking, including area for snow storage, to serve the design capacity that was conceptually approved in the Record of Decision for the Mt. Hood Meadows Ski Area Master Plan published in 1997 while also minimizing environmental impact from parking lot construction and maintenance; and,

• Separate the industrial bus parking and vehicle maintenance functions away from public areas at the Mt Hood Meadows Main Parking lot to further improve safety and parking capacity.

Proposed Action

The Proposed Action is to construct the Twilight Parking Lot, an eight-acre parking lot for both downhill and Nordic customers at Mt Hood Meadows Ski Area (see attached map). An additional 4.5 acres would be cleared for access roads, cut/fill slopes, storm water swales, snow storage, and an equipment maintenance yard. In order to facilitate the building of the new parking lot, the following actions are included in the proposal.

• Construct a one-half acre equipment maintenance yard including bus and snow equipment parking, and equipment maintenance building.

• Construct a Guest Services building to serve both downhill and Nordic customers. Services to be provided include: bathrooms, lockers, limited food and beverage services, guest seating, Nordic equipment rental, and covered bus stop.

• Construct a left turn lane with adequate vehicle storage for north bound traffic at the intersection of Highway 35 and the Mt. Hood Meadows Access Road (Forest Service Road 3545).

• Bury utility lines from existing Nordic Center to the Twilight Lot in two 36-inch deep trenches separated by at least 10-feet following existing clearings.

• Construct 0.42 miles of Nordic ski trails (to replace trail segments bisected by the proposed parking area). New trails would result in disturbance of an additional 2.75 acres. There would be no net loss of Nordic ski trails.

• Any live whitebark pine trees that are removed as part of this project would be transplanted within the MHM permit area, if feasible. If it is not feasible to transplant the impacted whitebark pine, a new rust resistant seedling would be planted within the permit area.

The equipment maintenance associated with the Twilight Parking Lot is light maintenance and de-icing/washing of buses and snow removal equipment. In addition to the new Twilight Parking Lot, the Proposed Action includes the construction of the new Sunrise Vehicle Maintenance Shop on the north side of the Sunrise parking lot to provide maintenance services for snow cats and a location for larger maintenance needs (see attached map). The existing shop, built in 1967, is not large enough to service the number and size of the present snow cat, snowmobile, truck, and bus fleet. Also, the location of the current maintenance shop impedes traffic flow and removes potential parking capacity at the main lot. The new facility would include a fueling station and storm water management system. A water supply line and fiber optic communication line would be buried from the Administration building to the shop following the route of existing buried power line. The maintenance shop would provide adequate capacity for the size of the current and projected future fleet.

The existing maintenance shop initially would be used for storage and eventually redeveloped for skier services. The existing maintenance shop has three underground fuel storage tanks. Two of the tanks would be moved to the new maintenance facilities for the fueling operation at the new Sunrise Maintenance Shop. The area would be decommissioned per Oregon Department of Environmental Quality (DEQ) standards. One of the existing tanks would remain for fuel for the emergency power generators. It will be maintained, as it is now, per DEQ standards. The redevelopment of the building for skier services would require additional site-specific NEPA as required by the ROD, if any additional exterior improvements or changes are made to the building.

The Proposed Action would be implemented as described below:

• Remove trees and vegetation from a 12.5-acres site near the state sand shed for parking for the Twilight Parking Lot, storm water treatment, snow storage, circulation, buildings, and access roads. Pile and burn stumps and slash.

• Remove trees from 2.8-acres to replace nordic trails impacted by parking lot construction. Flush cut or grind stumps, scatter or hand pile and burn slash, minimize damage to existing low growing vegetation.

• Remove trees from 1.8-acre site next to Sunrise Lot for the vehicle maintenance shop. Pile and burn stumps and slash.

• Install silt fence and other construction Best Mangement Practices (BMP) in compliance with erosion control plan.

• Stockpile topsoil within the disturbed areas. Grade areas to prepare for surfacing then place saved topsoil on cut and fill slopes.

• Hydro-seed disturbed areas with approved native vegetation. Place jute matting on steep slopes.

• Place gravel sub-grade and install asphalt.

• Construct buildings.

• Twilight utility line installation would result in 1.1-acres of disturbance within an existing ski trail

• Sunrise utility line installation would result in 0.38-acres of disturbance in an existing buried power line corridor.

• Include passive storm water treatment features into design of project.

• The fill associated with these projects would be used and balanced between the Twilight Park Lot, Sunrise Maintenance Shop and Highway 35 left turn lane.

The total disturbance associated with this project is approximately 18 acres. All projects would occur within the Mt. Hood Meadows Ski Resort Permit Area. The entire permit area occurs on A11-Winter Recreation Area according to the Mt. Hood National Forest Land and Resource Management Plan (Forest Plan). The proposed projects meet the standards and guidelines for this land use allocation. The legal description of these projects is: Sections 10 & 11, T3S, R 9E.

Proposed Scoping

As directed by the National Environmental Policy Act (1969), the Forest Service is now seeking comments from individuals, organizations, local and state governments, and other federal agencies that may be interested in or affected by the proposed action. Comments may pertain to the nature and scope of the environmental, social, and economic issues, and possible alternatives to the proposed action. Comments will help the Forest Service assess the proposed action, develop alternatives and prepare a draft environmental impact statement.

Alternatives Considered

The No Action alternative will serve as a baseline for comparison of alternatives. This alternative will offer no changes to the parking within the permit area. It will be fully developed and analyzed. The proposed action, as described above will be considered as an alternative. Additional alternatives may be developed around the proposed action to address key issues identified in the scoping and public involvement process.

Estimated Dates for Draft and Final EIS

The draft EIS is expected to be filed with the Environmental Protection Agency (EPA) and to be available for public comment by April 2012. The comment period on the draft EIS will be 45 days from the date the EPA publishes the notice of availability in the Federal Register.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC. 435 U.S. 519. 553 (1978). Also, environmental objectives that could be raised at the draft EIS stage but that are not raised until after the completion of the final EIS may be waived or dismissed by the courts. City of Angoon v. Hodel, 803 F. 2d 1016, 1022 (9th Cir. 1986) and Wisconsin Heritage, Inc. v. Harris, 490 F. Supp. 1334 (E.D.Wis. 1980). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of the alternatives formulated and discussed in the statement. Reviewers may wish to refer to the Council on Environmental Quality Regulations for implementing the procedural provision of the National Environmental Policy Act (40 CFR 1503.3).

Comments received in response to this solicitation, including names and addresses of those who comment, will be considered part of the public record on this proposed action and will be available for public inspection. Comments submitted anonymously will be accepted and considered; however, those who submit anonymous comments may not have standing to appeal the subsequent decision under 36 CFR Part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in November 2012. The Responsible Official will be Daina Bambe, Hood River District Ranger on the Mt. Hood National Forest. She will consider comments, responses, environmental consequences discussed in the final EIS, and applicable laws, regulations, and policies in making a decision regarding this proposed action. The responsible official will document the decision and rationale for the decision in the Record of Decision. It will be subject to Forest Service Appeal Regulations (36 CFR Part 215).

Dated: June 29, 2011.
Daina L. Bambe,
Hood River District Ranger, Mt. Hood National Forest.

[FR Doc. 2011-17143 Filed 7-7-11; 8:45 am]

BILLING CODE 3410-11-P